SMALL BUSINESS ADMINISTRATION

[Disaster Declaration #10109 and #10110]

Mississippi Disaster # MS-00001

AGENCY: Small Business Administration.

ACTION: Notice.

SUMMARY: This is a notice of an Administrative declaration of a disaster for the State of Mississippi, dated 04/18/2005.

Incident: Severe Storms and Tornadoes.

Incident Period: 04/06/2005.

Effective Date: 04/18/2005.

Physical Loan Application Deadline Date: 06/20/2005.

EIDL Loan Application Deadline Date: 01/17/2006.

ADDRESSES: Submit completed loan applications to: U.S. Small Business Administration, Disaster Area Office 1, 360 Rainbow Blvd. South 3rd Floor, Niagara Falls, NY 14303.

FOR FURTHER INFORMATION CONTACT: Alan Escobar, Office of Disaster Assistance, U.S. Small Business Administration, 409 3rd Street, Suite 6050, Washington, DC 20416.

SUPPLEMENTARY INFORMATION: Notice is hereby given that as a result of the Administrator's disaster declaration on 04/18/2005, applications for disaster loans may be filed at the address listed above or other locally announced locations.

The following areas have been determined to be adversely affected by the disaster:

Primary Counties:

Jackson, Rankin

Contiguous Counties:

Mississippi: Copiah, George, Harrison, Hinds, Madison, Scott, Simpson, Smith, and Stone.

Alabama: Mobile.

The Interest Rates are:

| Percent.
Homeowners With Credit Available Elsewhere | 5.875
Homeowners Without Credit Available Elsewhere | 2.937
Businesses With Credit Available Elsewhere | 6.000
Businesses & Small Agricultural Cooperatives Without Credit Available Elsewhere | 4.000
Other (Including Non-Profit Organizations) With Credit Available Elsewhere | 4.750
Businesses and Non-Profit Organizations Without Credit Available Elsewhere | 4.000

The number(s) assigned to this disaster for physical damage is 10109 C and for economic injury is 10110 0.

The States which received EIDL Decl # are Mississippi and Alabama.

(Catalog of Federal Domestic Assistance Numbers 59002 and 59008)

Dated: April 18, 2005.
Hector V. Barreto,
Administrator.

[FR Doc. 05-8673 Filed 4-29-05; 8:45 am]

BILLING CODE 8025-01-P